DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 15, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Production and Conservation Business Center

Title: FPAC Federal Award Performance Monitoring and Reporting Form.

OMB Control Number: 0565-NEW.

Summary of Collection: In accordance with the Paperwork Reduction Act requirements, the Farm Production and Conservation (FPAC) is requesting comments from all interested individuals and organizations on a new information collection request for the FPAC Federal Award Performance Monitoring and Reporting Form in support of the implementation of Performance Measurement. This information must be collected with the frequency required by the terms and conditions of the Federal award, but no less frequently than annually and not more frequently than quarterly except in unusual circumstances. The information collection, FPAC Federal Award Performance Monitoring and Reporting Form, will support the FPAC Business Center (BC), Farm Service Agency (FSA), Commodity Credit Corporation (CCC), Natural Resources Conservation Service (NRCS), and Risk Management Agency (RMA) in obtaining required Federal award performance information from recipients. This form will replace the discontinued “Standard Form (SF) Performance Progress Report” which had previously been used to collect this data.

Need and Use of the Information: This section of the Uniform Administrative Requirements, Cost Principles, and Audit Requirements for Federal Awards, 2 CFR part 200, requires Federal agencies to measure recipients' accomplishments against performance goals and objectives. Performance reporting allows the Federal agency to share lessons learned, improve program outcomes, and foster adoption of promising practices. In addition, performance reporting frequency and content is established to not only allow the Federal awarding agency to understand the recipient progress, but also to facilitate identification of promising practices among recipients and build the evidence upon which the Federal awarding agency's program and performance decisions are made.

FPAC will use the Federal Award Performance Monitoring and Reporting Form to support the implementation of section 301 of 2 CFR part 200, Performance Measurement.

Affected Public: Individual or Household, Private Sectors: Businesses or other for-profits; Farms, Not-for-profits institution, and State, Local and Tribal Government.

Estimated Number of Respondents: 4,000.

Frequency of Responses: Reporting; Other (one-time).

Total Burden Hours: 6,000 hours.

Rachelle Ragland-Greene,
Departmental Information Collection Clearance Officer.

[FR Doc. 2024-23829 Filed 10-15-24; 8:45 am]

BILLING CODE 3411-E2-P